DEPARTMENT OF TRANSPORTATION

Federal Aviation Administration

14 CFR Part 97

[Docket No. 31311; Amdt. No. 3904]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 12, 2020. The compliance date for each SIAP, associated Takeoff Minimums, and ODP is specified in the amendatory provisions.

The incorporation by reference of certain publications listed in the regulations is approved by the Director of the Federal Register as of May 12, 2020.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73169. Telephone: (405) 954-4164.

SUPPLEMENTARY INFORMATION:

This rule amends Title 14, Code of Federal Regulations, Part 97 (14 CFR part 97) by amending the referenced SIAPs. The complete regulatory description of each SIAP is listed on the appropriate FAA Form 8260, as modified by the National Flight Data Center (NFDC)/Permanent Notice to Airmen (P- NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary. This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal.

For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on May 1, 2020.
Robert C. Carty,
Executive Deputy Director, Flight Standards Service.

Adoption of the Amendment

Accordingly, pursuant to the authority delegated to me, Title 14, Code of Federal regulations, Part 97 (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

§§ 97.23, 97.25, 97.27, 97.29, 97.31, 97.33, 97.35 [AMENDED]

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

Effective Upon Publication

AIRAC date | State | City | Airport | FDC No. | FDC date | Subject
18-Jun-20 | MN | Benson | Benson Muni | 0/2106 | 3/18/20 | NDB RWY 14, Amdt 7A.
18-Jun-20 | MN | Marshall | Southwest Minnesota Rgnl Marshall/Ryan Fld | 0/2189 | 4/20/20 | VOR RWY 12, Amdt 8A.
18-Jun-20 | TX | Fort Worth | Fort Worth Meacham Intl | 0/2754 | 4/17/20 | ILS OR LOC RWY 34, Amdt 2.
18-Jun-20 | OK | Bartlesville | Bartlesville Muni | 0/2757 | 4/17/20 | VOR/DME RWY 35, Amdt 6.
18-Jun-20 | AR | Fayetteville | Drake Field | 0/2787 | 4/17/20 | RNAV (GPS) RWY 16, Amdt 1A.
18-Jun-20 | AR | Fayetteville | Drake Field | 0/2788 | 4/17/20 | RNAV (GPS) RWY 34, Amdt 1B.
18-Jun-20 | NY | Niagara Falls | Niagara Falls Intl | 0/2800 | 4/14/20 | NDB RWY 28R, Amdt 17A.
18-Jun-20 | NY | Niagara Falls | Niagara Falls Intl | 0/2802 | 4/14/20 | RNAV (GPS) Z RWY 24, Orig-A.
18-Jun-20 | NY | Niagara Falls | Niagara Falls Intl | 0/2804 | 4/14/20 | RNAV (GPS) Y RWY 24, Orig-A.
18-Jun-20 | NY | Niagara Falls | Niagara Falls Intl | 0/2805 | 4/14/20 | RNAV (GPS) RWY 28R, Orig-A.
18-Jun-20 | NY | Niagara Falls | Niagara Falls Intl | 0/2806 | 4/14/20 | RNAV (GPS) RWY 6, Orig-A.
18-Jun-20 | FL | Fort Pierce | Treasure Coast Intl | 0/2807 | 4/14/20 | RNAV (GPS) RWY 14, Amdt 2B.
18-Jun-20 | FL | Fort Pierce | Treasure Coast Intl | 0/2808 | 4/14/20 | RNAV (GPS) RWY 28L, Amdt 1B.
18-Jun-20 | NY | Niagara Falls | Niagara Falls Intl | 0/2809 | 4/14/20 | ILS Y OR LOC Y RWY 28R, Amdt 23A.
18-Jun-20 | FL | Fort Pierce | Treasure Coast Intl | 0/2810 | 4/14/20 | RNAV (GPS) RWY 32, Amdt 1C.
18-Jun-20 | FL | Fort Pierce | Treasure Coast Intl | 0/2811 | 4/14/20 | VOR/DME RWY 14, Amdt 9C.
18-Jun-20 | NY | Niagara Falls | Niagara Falls Intl | 0/2812 | 4/14/20 | ILS Z OR LOC Z RWY 28R, Amdt 4A.
18-Jun-20 | NV | Las Vegas | North Las Vegas | 0/3210 | 4/14/20 | ILS OR LOC RWY 12L, Orig-D.
18-Jun-20 | PA | Hazleton | Hazleton Rgnl | 0/3220 | 4/9/20 | RNAV (GPS) RWY 10, Amdt 3.
18-Jun-20 | IL | Greenville | Greenville | 0/3778 | 4/10/20 | RNAV (GPS) RWY 36, Orig.
18-Jun-20 | MI | Owosso | Owosso Community | 0/4542 | 4/17/20 | VOR/DME RWY 29, Amdt 1D.
18-Jun-20 | MI | Owosso | Owosso Community | 0/4543 | 4/17/20 | RNAV (GPS) RWY 11, Amdt 1E.
18-Jun-20 | NE | Hastings | Hastings Muni | 0/4556 | 4/17/20 | RNAV (GPS) RWY 4.Orig-A.
18-Jun-20 | NE | Hastings | Hastings Muni | 0/4557 | 4/17/20 | RNAV (GPS) RWY 14, Orig-C.
18-Jun-20 | NE | Hastings | Hastings Muni | 0/4558 | 4/17/20 | RNAV (GPS) RWY 32, Orig-B.
18-Jun-20 | OK | Durant | Durant Rgnl—Eaker Field | 0/4651 | 4/17/20 | RNAV (GPS) RWY 35, Amdt 2.
18-Jun-20 | IN | Muncie | Delaware County Rgnl | 0/4656 | 4/17/20 | RNAV (GPS) RWY 14, Orig-B.
18-Jun-20 | IN | Muncie | Delaware County Rgnl | 0/4658 | 4/17/20 | VOR RWY 14, Amdt 17A.
18-Jun-20 | OK | Duncan | Halliburton Field | 0/4845 | 4/17/20 | RNAV (GPS) RWY 17, Amdt 2.
18-Jun-20 | OK | Duncan | Halliburton Field | 0/4846 | 4/17/20 | RNAV (GPS) RWY 35, Amdt 2A.
18-Jun-20 | SC | Greenville | Greenville Downtown | 0/5525 | 4/22/20 | RNAV (GPS) RWY 1, Orig-C.
18-Jun-20 | SC | Greenville | Greenville Downtown | 0/5526 | 4/22/20 | NDB RWY 1, Amdt 22C.
18-Jun-20 | OH | Columbus | Ohio State University | 0/5532 | 4/21/20 | RNAV (GPS) RWY 27L, Orig-A.
18-Jun-20 | OH | Columbus | Ohio State University | 0/5533 | 4/21/20 | RNAV (GPS) RWY 9R, Amdt 1A.
18-Jun-20 | OH | Columbus | Ohio State University | 0/5534 | 4/21/20 | ILS OR LOC RWY 9R, Amdt 5A.
18-Jun-20 | OH | Columbus | Ohio State University | 0/5535 | 4/21/20 | NDB RWY 9R, Amdt 3A.
18-Jun-20 | WY | Hulett | Hulett Muni | 0/5954 | 4/24/20 | RNAV (GPS) RWY 13, Orig.
18-Jun-20 | WY | Hulett | Hulett Muni | 0/5955 | 4/24/20 | RNAV (GPS)-A, Amdt 1.
18-Jun-20 | MT | Plentywood | Sher-Wood | 0/6195 | 4/24/20 | RNAV (GPS) RWY 12, Orig-B.
18-Jun-20 | MT | Plentywood | Sher-Wood | 0/6196 | 4/24/20 | RNAV (GPS) RWY 30, Orig-B.
18-Jun-20 | GA | Reidsville | Swinton Smith Fld At Reidsville Muni | 0/6247 | 4/24/20 | RNAV (GPS) RWY 11, Amdt 1A.
18-Jun-20 | NJ | Pittstown | Sky Manor | 0/6255 | 4/24/20 | RNAV (GPS) RWY 7, Amdt 1A.
18-Jun-20 | NJ | Pittstown | Sky Manor | 0/6256 | 4/24/20 | RNAV (GPS) RWY 25, Orig-B.
18-Jun-20 | NJ | Pittstown | Sky Manor | 0/6257 | 4/24/20 | VOR RWY 7, Amdt 3B.
18-Jun-20 | IN | Muncie | Delaware County Rgnl | 0/6957 | 4/27/20 | VOR RWY 21, Amdt 14.
18-Jun-20 | IA | Belle Plaine | Belle Plaine Muni | 0/7297 | 3/18/20 | VOR-A, Amdt 1A.
18-Jun-20 | IL | Rochelle | Rochelle Muni Airport- Koritz Field | 0/7299 | 3/18/20 | VOR-A, Amdt 8A.
18-Jun-20 | WA | Yakima | Yakima Air Terminal/Mcallister Field | 0/7314 | 4/13/20 | LOC/DME BC-B, Amdt 3.
18-Jun-20 | WA | Yakima | Yakima Air Terminal/Mcallister Field | 0/7315 | 4/13/20 | VOR-A, Amdt 7.
18-Jun-20 | WA | Yakima | Yakima Air Terminal/Mcallister Field | 0/7316 | 4/13/20 | VOR/DME OR TACAN RWY 27, Amdt 8A.

[FR Doc. 2020-10005 Filed 5-11-20; 8:45 am]

BILLING CODE 4910-13-P